DEPARTMENT OF TRANSPORTATION

Federal Motor Carrier Safety Administration

[Docket No. FMCSA-2016-0069]

Commercial Driver's Licenses; Expansion of Military Occupational Specialties in the Pilot Program To Allow Persons 18, 19, and 20 Years Old With Military Driving Experience To Operate Commercial Motor Vehicles in Interstate Commerce

AGENCY: Federal Motor Carrier Safety Administration (FMCSA), DOT.

ACTION: Notice of pilot program; request for comments.

SUMMARY: As required by the Fixing America's Surface Transportation (FAST) Act, FMCSA implemented a pilot program to allow individuals aged 18, 19 and 20 to operate commercial motor vehicles (CMVs) in interstate commerce if they have received heavy-vehicle driver training in certain Military Occupational Specialties (MOS) while in military service. FMCSA proposes to expand the MOS eligible to participate in this pilot program to provide additional service members with the opportunity to transition to commercial driving jobs.

DATES: Comments must be received on or before November 9, 2020.

ADDRESSES: You may submit comments bearing the Federal Docket Management System (FDMS) Docket ID FMCSA-2016-0069 using any of the following methods:

• Federal eRulemaking Portal: www.regulations.gov. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251.

Each submission must include the Agency name and the docket number for this notice. Note that DOT posts all comments received without change to www.regulations.gov, including any personal information included in a comment. Please see the Privacy Act heading below.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Mr. Selden Fritschner, CDL Division, Federal Motor Carrier Safety Administration, 1200 New Jersey Avenue SE, Washington, DC 20590-0001, by email at selden.fritschner@dot.gov, or by telephone at 202-366-0677. If you have questions on viewing or submitting material to the docket, contact Docket Services, telephone (202) 366-9826.

SUPPLEMENTARY INFORMATION:

I. Public Participation and Request for Comments

FMCSA encourages you to participate by submitting comments and related materials. In this notice, FMCSA requests certain information, but comments are not limited to responses to those requests.

Submitting Comments

If you submit a comment, please include the docket number for this notice (FMCSA-2016-0069), indicate the specific section of this document to which the comment applies, and provide a reason for suggestions or recommendations. You may submit your comments and material online, by fax, mail, or hand delivery, but please use only one of these means. FMCSA recommends that you include your name and a mailing address, an email address, or a phone number in the body of your document so the Agency can contact you if it has questions regarding your submission.

To submit your comment online, go to www.regulations.gov, put the docket number, “FMCSA-2016-0069” in the “Keyword” box, and click “Search.” When the new screen appears, click on the “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

Viewing Comments and Documents

To view comments, as well as documents mentioned in this notice as being available in the docket, go to www.regulations.gov and insert the docket number, “FMCSA-2016-0069” in the “Keyword” box and click “Search.” Next, click the “Open Docket Folder” button and choose the document listed to review. If you do not have access to the internet, you may view the docket online by visiting the Docket Management Facility in Room W12-140 on the ground floor of the DOT West Building, 1200 New Jersey Avenue SE, Washington, DC 20590, between 9 a.m. and 5 p.m., E.T., Monday through Friday, except Federal holidays. To be sure someone is there to help you, please call (202) 366-9317 or (202) 366-9826 before visiting Docket Operations.

II. Legal Basis

Under 49 U.S.C. 31315 and 31136(e), FMCSA is authorized to grant waivers and exemptions from the Federal Motor Carrier Safety Regulations (FMCSRs) and to conduct pilot programs. A waiver is limited to a period of 3 months and may be granted without requesting public comment (49 U.S.C. 31315(a)). By contrast, an exemption may remain in effect for up to 5 years ¹ and may be renewed. The Secretary must provide the public with an opportunity to comment on each exemption request prior to granting or denying it (49 U.S.C. 31315(b)).

¹ Section 5206 of the Fixing America's Surface Transportation (FAST) Act amended 49 U.S.C. 31315(b)(2) to extend the maximum duration of an exemption from 2 years to 5 years, effective October 1, 2015.

Pilot programs under 49 U.S.C. 31315(c) may include one or more exemptions to allow for the testing of innovative alternatives to certain FMCSRs. FMCSA must publish in the Federal Register a detailed description of each pilot program, including the exemptions being considered, and provide notice and an opportunity for public comment before the effective date of the program. The Agency is required to ensure that the safety measures in the pilot programs are designed to achieve a level of safety that is equivalent to, or greater than, the level of safety that would be achieved through compliance with the safety regulations. The maximum duration of pilot programs is 3 years from the starting date.

At the conclusion of each pilot program, FMCSA must report to Congress its findings, conclusions, and recommendations, including suggested amendments to laws and regulations that would enhance motor carrier, CMV, and driver safety, and improve compliance with the FMCSRs.

Section 5404 of the FAST Act (Pub. L. 114-94, 129 Stat. 1312, 1549, Dec. 4, 2015) requires the Secretary of Transportation to conduct a commercial driver pilot program to “. . . study the feasibility, benefits, and safety impacts of allowing a covered driver to operate a commercial motor vehicle in interstate commerce.” A “covered driver” is currently defined as a member or former member of the armed forces or reserve and National Guard components between the ages of 18 and 21, who is qualified in an MOS to operate a CMV or similar vehicle. A driver participating in the program may not transport passengers or hazardous cargo, or operate a vehicle in a “special configuration.”

Section 5404 requires the pilot program to collect and analyze data regarding crashes involving covered drivers participating in the program, and drivers under the age of 21 operating CMVs in intrastate commerce.

Section 5404 also requires the Secretary to “. . . conduct, monitor, and evaluate . . .” the pilot program in consultation with a working group consisting of representatives of the armed forces, industry, drivers, safety advocacy organizations, and State licensing and enforcement officials. The working group must review the data collected and make recommendations to the Secretary regarding the feasibility, benefits, and safety impacts of allowing a covered driver to operate in interstate commerce. (See Section V of this notice.)

III. Background

On August 22, 2016, FMCSA published a notice that described the proposed pilot program required by the FAST Act and solicited public comment (81 FR 56745). On July 6, 2018, the Agency published a further notice responding to the comments received and outlining the details of the pilot program (83 FR 31633). Please refer to those two documents for a comprehensive discussion of the pilot program and the 7 MOS that currently qualify for the pilot program.

IV. Armed Forces Heavy-Vehicle Driver Training Programs

Four branches of the Department of Defense—the Army, Air Force, Navy, and Marine Corps—include an MOS specifically focused on motor transport operations and consequently provide specific training to their personnel on how to operate heavy-duty vehicles. Additionally, there are three MOS classifications with additional training required for other types of heavy-duty specialty vehicles (e.g., gasoline haulers, construction vehicles, and military equipment transport oversize/overweight [non-track] vehicles).

As such, the seven original Military Occupational Specialties approved for the Pilot program in the July 6, 2018, Federal Register notice are as follows:

• Army

○ 88M Motor Transport Operator

○ 92F Fueler

• Marine Corps

○ 3531 Motor Vehicle Operator

• Navy

○ E.O. Equipment Operator

• Air Force

○ 2TI Vehicle Operator

○ 2FO Fueler

○ 3E2 Pavement and Construction Equipment Operator

FMCSA is proposing to expand the list of eligible MOS to include additional MOS classifications for which heavy-duty vehicle operation is a core duty and for which heavy-vehicle training is a requirement. Those additional MOS are as follows:

• Army

○ 12B Combat Engineer

○ 13B Field Artillery

○ 13P MLRS (Multiple Launch Rocket System)

○ 88H Transportation Cargo

○ 14T Patriot Launching Station Operator

• Marine Corps

○ 3537 After 3531 achieves the rank of SSgt

○ 0811 Field Artillery Cannoneer

○ 1371 Combat Engineer

○ 1345 Engineer Equipment Operator

Each of these proposed additions requires drivers to complete classroom and road (skills) training prior to receiving the MOS designation, as well as ongoing training and routine recertification on heavy vehicle operations. Military personnel in these MOS receive continuous training during their service period to maintain proficiency. Additionally, retesting is conducted annually, at a minimum.

The core training agenda for each of these MOS includes:

• Classroom Training and Preparedness:

○ Ensuring the driver is in possession of a valid State driver's license;

○ Confirming the physical qualifications for a large truck driver;

○ Providing training equivalent to the civilian commercial learner's permit (CLP);

○ Training directed at the driver responsibilities and Government liability;

○ Awareness of State, local, host nation, and post traffic regulations and laws;

○ Equipment inspection and maintenance;

○ Accident reporting procedures;

○ Vehicle inspection; preventive maintenance checks and services;

○ Crash avoidance;

○ Environmental considerations;

○ Night driving;

○ Response to emergency situations; vehicle malfunctions; and

○ Route planning.

• Road Training:

○ Vehicle characteristics;

○ Parking and backing;

○ Operating systems;

○ Basic control tasks;

○ Road conditions;

○ Size and weight;

○ Negotiating traffic;

○ Yielding right of way;

○ Intersections;

○ Turns;

○ Following distance;

○ Negotiating curves;

○ Adverse weather;

○ Skids; and

○ Speed.

To obtain an MOS credential, both for the MOS currently eligible for the Agency's pilot program, and for the additional MOS proposed in this notice, each driver must pass the driver skills test, which includes the following components:

• Forward stop;

• Straight line backing;

• Alley dock parking;

• Eight left and eight right turns;

• A straight section of urban business streets;

• Two through intersections;

• Two railway crossings;

• Two curves, one to the left and one to the right;

• A two-lane rural or semi-rural road;

• Expressway driving, including lane changes and higher speeds; and

• Gear shifting for:

○ Downgrade;

○ upgrade;

○ downgrade for stopping;

○ upgrade for stopping;

○ underpass or low clearance, and

○ one bridge.

The training requirements for the nine new proposed MOS are equivalent to those required for the original seven MOS approved for the pilot program. As such, FMCSA believes that the safety of the pilot program will not be adversely affected by inclusion of these additional MOS in the program. These additional MOS are being included at the recommendation of the Army and Marine Corps to provide additional service members with the opportunity to transition to commercial driving jobs. These additional MOS were not included previously because FMCSA was not aware that these classifications received heavy-vehicle training and recurrent training equivalent to the training the original MOS receive. By increasing the MOS, FMCSA anticipates there will be an additional 30,000 drivers between the ages of 18 and 21 who are eligible to participate in the Under 21 Military CDL Pilot Program.

V. Paperwork Reduction Act

The Paperwork Reduction Act of 1995 (the PRA) (44 U.S.C. 3501-3520) prohibits agencies from conducting information collection (IC) activities until they analyze the need for the collection of information and how the collected data would be managed. Agencies must also analyze whether technology could be used to reduce the burden imposed on those providing the data. The Agency must estimate the time burden required to respond to the IC requirements, such as the time required to complete a particular form. The Agency submitted its IC analysis and burden estimate to the Office of Management and Budget (OMB) as a formal information collection request (ICR) for this pilot program and received approval on April 23, 2019. The ICR expires on April 30, 2022, and can be found under OMB Control Number 2126-0068.

VI. Removal From the Program

FMCSA reserves the right to remove any motor carrier or driver from the pilot program for reasons including, but not limited to, failing to meet any of the requirements of the program.

VII. Request for Public Comments

FMCSA requests comments on the need for, and the advisability of, including the additional MOS listed above in the pilot program. Because the questions asked in the 2016 Federal Register notice were addressed in the 2018 notice, we are not seeking responses on those issues.

James W. Deck,
Deputy Administrator.

[FR Doc. 2020-22401 Filed 10-8-20; 8:45 am]

BILLING CODE 4910-EX-P